DEPARTMENT OF THE INTERIOR

Fish and Wildlife Service

Endangered and Threatened Wildlife and Plants: Notice of Receipt of an Application for an Incidental Take Permit and Availability and Opening of Comment Period for an Environmental Assessment/Habitat Conservation Plan (EA/HCP) for the West Virginia Northern Flying Squirrel in Association With Camp Wilderness Development Project at Snowshoe Mountain Resort, Pocahontas County, WV

AGENCY: Fish and Wildlife Service, Interior.

ACTION: Notice of availability and receipt of application.

SUMMARY: This notice advises the public that Intrawest Resorts, Inc. (IRI) and Snowshoe Mountain, Inc. (SMI), an affiliate of IRI have applied to the U.S. Fish and Wildlife Service (Service) for an incidental take permit (ITP) pursuant to section 10(a)(1)(B) of the Endangered Species Act of 1973 (Act), as amended. The application has been assigned permit number TE-065121. The proposed permit would authorize the incidental take of a federally endangered species, the West Virginia northern flying squirrel (WVNFS) (Glaucomys sabrinus fuscus), known to occur on property owned by the Applicants at Snowshoe Mountain Resort, Pocahontas County, West Virginia. The proposed taking is incidental to the planned construction of approximately 55 buildings, access road, shuttle terminal, ski trail and associated infrastructure of Camp Wilderness Development on approximately 51 acres owned by IRI. The permit would be in effect for up to 24 years depending on completion of final build out.

The Service announces the receipt of the IRI/SMI ITP application and the availability of the proposed Camp Wilderness Development HCP which accompanies the ITP application, for public comment. In addition, the Service also announces the availability of a draft EA for the proposed issuance of the ITP. This notice is provided pursuant to section 10(c) of the Act and National Environmental Policy Act of 1969 (NEPA) regulations (40 CFR 1506.6).

The Service will evaluate the application, associated documents, and comments submitted thereon to determine whether the application meets the requirements of NEPA regulations and section 10(a) of the Act. If it is determined that the requirements are met, a permit will be issued for the incidental take of the WVNFS. The final NEPA and permit determinations will not be completed until after the end of the 60-day comment period and will fully consider all public comments received during the comment period.

DATES: Written comments on the permit application, HCP, and EA should be sent to the West Virginia Field Office (see ADDRESSES) and should be received on or before January 28, 2003.

ADDRESSES: Persons wishing to review the permit application, HCP, and draft EA may obtain a copy by writing the Service's West Virginia Field Office, 694 Beverly Pike, Elkins, West Virginia 26241. Requests for the documentation must be in writing to be processed. Written data or comments concerning the permit application, draft EA, and/or HCP should also be addressed to the Field Supervisor, U.S. Fish and Wildlife Service, West Virginia Field Office, Elkins, West Virginia. Please refer to permit TE-0651212 when submitting comments. Documents will also be available for public inspection by written request, by appointment only, during normal business hours (8 to 4:30).

FOR FURTHER INFORMATION CONTACT: Mr. Jeffrey Towner or Shane Jones, West Virginia Field Office (see ADDRESSES above), 304-636-6586.

SUPPLEMENTARY INFORMATION: Section 9 of the Act and Federal regulation prohibits the “taking” of a species listed as endangered or threatened. Under the Act, the term “take” means to harass, harm, pursue, hunt, shoot, wound, kill, trap, capture, or collect listed wildlife, or to attempt to engage in any such conduct. The Service may, under limited circumstances, issue permits to “incidentally take” listed species, if such taking is incidental to, and not the purpose of, otherwise lawful activities. Regulations governing permits for endangered species are promulgated in 50 CFR 17.22.

Background

IRI/SMI have applied to the Service for an incidental take permit pursuant to section 10(a) of the Act. The Applicants propose to implement an HCP for the WVNFS that will allow development construction and subsequent occupancy activities in WVNFS habitat. The Applicant's proposed development may result in take, as defined in the Act and its implementing regulations, of listed species. Authorized take would only affect WVNFS; take of other federally listed species is specifically excluded from the proposed action. This permit would authorize the incidental take of WVNFS at Camp Wilderness Development through otherwise lawful activities, specifically the construction of the planned development, occurring in WVNFS habitat. The HCP and permit would be in effect for a maximum of 24 years upon issuance.

The Applicant proposes the construction and subsequent occupancy of Camp Wilderness at Snowshoe Mountain. The proposed development consists of approximately 55 buildings containing privately owned residential units, a community building, other community facilities, a shuttle terminal, and a ski trail. Associated amenities (e.g., playground, a man-made pond and artificial stream, recreational trails) and infrastructure (e.g., streets and parking lots) are also planned. The proposed construction boundaries of Camp Wilderness encompass approximately 51 acres and are adjacent to and north of several existing condominium developments, and are located about 400 feet north of the Snowshoe Mountain ski slopes.

The anticipated incidental take will be limited to harm through habitat loss as the result of the permanent loss of habitat on 22.5 acres, and temporary loss of habitat on 17.3 acres. Other impacts to the WVNFS associated with the Camp Wilderness development do not rise to the level of take. IRI/SMI propose to implement measures to minimize, mitigate and monitor impacts to the WVNFS and include seasonal clearing restrictions, minimizing indirect effects on WVNFS by occupants of Camp Wilderness, minimizing the Camp Wilderness construction footprint, allowing natural forest regeneration in the Temporary Construction Zone, and establishing a permanent conservation area to provide refuge for the WVNFS.

The draft EA considers the environmental consequences of five alternatives, including a no-action alternative, the proposed action, a high density alternative, a reduced impact alternative and an off-site development alternative.

The Service provides this notice pursuant to section 10(c) of the Act. The Service will evaluate whether the issuance of a section 10(a)(1)(B) ITP complies with section 7 of the Act by conducting an intra-Service section 7 consultation. The results of the biological opinion, in combination with the evaluation of the permit application, the HCP, EA and comments submitted thereon, will be used in the final analysis to determine whether the application meets the requirements of section 10(a) of the Act. If the requirements are met, the Service will issue a permit to IRI/SMI for the incidental take of WVNFS during the proposed construction of Camp Wilderness. We will make the final permit decision no sooner than 60 days from the date of this notice.

Authority: The authority for this section is the Endagered Species Act of 1973, as amended (16 U.S.C. 1531 et seq.)

Dated: November 18, 2002.
Richard O. Bennett,
Acting Regional Director, Region 5.

[FR Doc. 02-30170 Filed 11-27-02; 8:45 am]

BILLING CODE 4310-55-P